DEPARTMENT OF THE INTERIOR

National Park Service

[NPS-WASO-NRNHL-DTS#-27418; PPWOCRADI0, PCU00RP14.R50000]

National Register of Historic Places; Notification of Pending Nominations and Related Actions

AGENCY: National Park Service, Interior.

ACTION: Notice.

SUMMARY: The National Park Service is soliciting comments on the significance of properties nominated before March 2, 2019, for listing or related actions in the National Register of Historic Places.

DATES: Comments should be submitted by March 29, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before March 2, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

NEW JERSEY

Bergen County

Westwood Railroad Station, Broadway & Westwood Ave., Westwood, SG100003609

Somerset County

Craig, Moses, Limekilns, 122 Main St., Peapack Gladstone, SG100003610

NORTH DAKOTA

Bottineau County

State Bank of Antler, Antler Sq., Antler, SG100003620

VIRGINIA

Botetourt County

Buchanan Theatre, 19778 Main St., Buchanan, SG100003611

Nelson County

Arrowhead, 115 Arrowhead Ln., Wingina, SG100003613

Newport News Independent City

Basic Construction Company Headquarters Building, 80 29th St., Newport News, SG100003614

Richmond Independent City

General Outdoor Advertising Company Richmond Branch, 1000 Jefferson Davis Hwy., Richmond, SG100003615

Milburne, 315 Lock Ln., Richmond, SG100003616

Model Tobacco Factory (Tobacco Warehouses in Richmond, Virginia, 1874-1963 MPS), 1100 Jefferson Davis Hwy., Richmond, MP100003617

Roanoke Independent City

Belmont Historic District, Albemarle, Bullitt, Elm, Jamison, Dale, Campbell, Cedar Bluff, Church, Highland, Mountain, Stewart, Tazewell & White Aves. SE, 4th-11th Sts. SE, Roanoke, SG100003618

WASHINGTON

Pierce County

Cushman Substation (Boundary Increase and Decrease), 1920 N Adams St., Tacoma, BC100003608

Additional documentation has been received for the following resource:

VIRGINIA

Lexington Independent City

Lexington Historic District, Roughly bounded by Chesapeake and Ohio RR, Graham and Jackson Aves., and Estill and Jordan Sts., Lexington, AD72001506

Authority: Section 60.13 of 36 CFR part 60.

Dated: March 4, 2019.
Christopher Hetzel,
Acting Chief, National Register of Historic Places/National Historic Landmarks Program.

[FR Doc. 2019-04720 Filed 3-13-19; 8:45 am]

BILLING CODE 4312-52-P